DEPARTMENT OF ENERGY

Federal Energy Regulatory Commission

[Docket Nos. EC05-126-000 et al.]

Sithe Energies, Inc., LLC, et al.; Electric Rate and Corporate Filings

September 13, 2005.

The following filings have been made with the Commission. The filings are listed in ascending order within each docket classification.

1. Sithe Energies, Inc., Sithe Energies U.S.A., Inc., Sterling Power, Ltd., Sterling Power Partners, L.P., Seneca Power Corporation, Seneca Power Partners, L.P., and Alliance Energy Group LLC

[Docket No. EC05-126-000]

Take notice that on September 7, 2005, Sithe Energies, Inc. (Sithe), Sithe Energies U.S.A., Inc. (Sithe U.S.A.), Seneca Power Corporation, Seneca Power Partners, L.P. (the Seneca Partnership), Sterling Power, Ltd., Sterling Power Partners, L.P. (the Sterling Partnership), and Alliance Energy Group LLC (Alliance Energy) (collectively, Applicants) submitted an amendment to an application filed on August 15, 2005 requesting authorization pursuant to section 203 of the Federal Power Act for Alliance Energy to acquire all of the interests in the Seneca Partnership and Sterling Partnership directly and indirectly owned by Sithe and Sithe U.S.A. (the Transaction). Applicants state that the amendment clarifies that Alliance Energy may acquire the Sithe's interests in the Seneca and Sterling Partnerships through its wholly-owned, Alliance Energy, New York LLC (Alliance Energy NY), in which case Alliance Energy's interests in the partnerships would be held indirectly through Alliance Energy NY.

Comment Date: 5 p.m. Eastern Time on September 21, 2005.

2. Twelvepole Creek, LLC; American Electric Power Service Corporation; and Appalachian Power Company

[Docket No. EC05-134-000]

Take notice that on September 8, 2005, Twelvepole Creek, LLC (Twelvepole Creek) and American Electric Power Service Corporation, on behalf of its electric utility operating company affiliate Appalachian Power Company (APCo) (collectively, Applicants), submitted pursuant to section 203 of the Federal Power Act, a joint application seeking authorization for the sale of jurisdictional facilities. Applicants state that the application requests Commission authorization for the transfer by Twelvepole Creek to APCo jurisdictional facilities associated with the Ceredo generating station located in Ceredo, Wayne County, West Virginia, and a related interconnection agreement.

Comment Date: 5 p.m. Eastern Time on October 4, 2005.

3. TransCanada PipeLines Limited 779540 Alberta Ltd.; TransCanada PipeLine USA Ltd.; TransCanada OSP Holdings Ltd.; and TCPL Power Ltd.

[Docket No. EC05-135-000]

Take notice that on September 7, 2005, TransCanada PipeLines Limited (TCLP) 779540 Alberta Ltd. (Dissolve Co.), TransCanada PipeLine USA Ltd (TCPL USA), TransCanada OSP Holdings Ltd (TC OSP) and TCPL Power Ltd (TCPL Power) (collectively, Applicants) filed an application under section 203 of the Federal Power Act requesting authorization for the dissolution of Dissolve Co, the transfer of shares of TC OSP from TCPL to TCPL USA and the transfer of shares of TCPL Power to TC OSP in order to effect a corporate reorganization.

Comment Date: 5 p.m. Eastern Time on September 28, 2005.

4. Entergy Services, Inc.

[Docket No. EL05-149-000]

Take notice that on September 2, 2005, Entergy Services, Inc., on behalf of the Entergy Operating Companies (collectively, Entergy), pursuant to Commission Rule 207, 18 CFR 385.207 (2005), petitioned for an issuance of a Declaratory Order regarding Entergy's obligation to pay third party generators for reactive power.

Entergy states that copies of this filing have been served on all customers under Entergy's Open Access Transmission Tariff and on Entergy's retail regulators.

Comment Date: 5 p.m. Eastern Time on October 3, 2005.

5. Southwest Transmission Cooperative, Inc.

[Docket No. NJ05-6-000]

Take notice that on September 1, 2005, Southwest Transmission Cooperative, Inc. (SWTC) tendered for filing its revised Open Access Transmission Tariff (OATT) in order to update its OATT and to comply with Order No. 2003-C regarding large generator interconnection, and to reestablish the compliance of its OATT with the Commission's safe harbor and reciprocity standards.

Comment Date: 5 p.m. Eastern Time on October 3, 2005.

6. Pacific Crest Power, LLC and Ridgetop Energy, LLC

[Docket Nos. QF92-55-007 and QF94-50-007]

Take notice that on September 1, 2005, Pacific Crest Power, LLC and Ridgetop Energy, LLC, filed with the Commission an application for recertification of a facility as a qualifying small power production facility pursuant to 18 CFR 292.207(b) of the Commission's regulations.

Comment Date: 5 p.m. Eastern Time on September 28, 2005.

7. Cameron Ridge LLC

[Docket No. QF98-41-007]

Take notice that on September 1, 2005, Cameron Ridge LLC, filed with the Commission an application for recertification of a facility as a qualifying small power production facility pursuant to 18 CFR 292.207(b) of the Commission's regulations.

Comment Date: 5 p.m. Eastern Time on September 28, 2005.

8. Southwest Power Pool, Inc.

[Dockets Nos. RT04-1-015 and ER04-48-015]

Take notice that on September 7, 2005, Southwest Power Pool, Inc. (SPP) submitted an errata to Attachment AJ filing to the SPP Open Access Transmission Tariff submitted on August 26, 2005 and on September 12, 2005, SPP submitted another errata to the independent Market Monitoring Services Agreement originally submitted on August 26, 2005. SPP requests an effective date of July 1, 2005 for its filings.

SPP states that a copy of this filing has been served on all persons on the official service list, as well as all state commissions. SPP further states the filing has been posted electronically on SPP's Web site at http://www.spp.org.

Comment Date: 5 p.m. Eastern Time on September 20, 2005.

9. Tennessee Valley Authority

[Docket No. TX05-1-004]

Take notice that on September 7, 2005, Tennessee Valley Authority (TVA) submitted a compliance filing pursuant to Commission Orders April 14 and August 3, 2005, addressing interconnections flow service agreement between TVA and East Kentucky Power Cooperative, Inc.

Comment Date: 5 p.m. Eastern Time on October 7, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5138 Filed 9-20-05; 8:45 am]

BILLING CODE 6717-01-P